ENVIRONMENTAL PROTECTION AGENCY

[FRL-9266-8]

Notice of Public Hearing and Extension of Public Comment Period of Draft National Pollutant Discharge Elimination System (NPDES) General Permits for Small Municipal Separate Storm Sewer Systems (MS4)

AGENCY: Environmental Protection Agency (EPA).

ACTION: Notice of public hearing and extension of public comment period of draft NPDES general permits.

SUMMARY: The Director of the Office of Ecosystem Protection, Environmental Protection Agency-Region 1 (EPA), issued a Notice of Availability of Draft NPDES general permits for discharges from small MS4s to certain waters of the Commonwealth of Massachusetts on November 4, 2010. A subsequent notice of a public hearing was published on November 29, 2011. Due to inclement weather, the public meeting and hearing for the Draft Massachusetts Interstate, Merrimack and South Coastal Small MS4 General Permit in Leominster, MA on January 12, 2011 were cancelled. EPA has rescheduled the hearing and extended the comment permit of the draft permits.

Information on the draft permits, appendices and fact sheet is available at: http://www.epa.gov/ne/npdes/stormwater/mimsc_sms4.html.

DATES: The public comment period is now from the November 4, 2010 to March 11, 2011. Interested persons may submit comments on the draft general permit as part of the administrative record to the EPA-Region 1, at the address given below, no later than midnight March 11, 2011. The general permit shall be effective on the date specified in the Federal Register publication of the Notice of Availability of the final general permit. The final general permit will expire five years from the effective date.

ADDRESSES: Submit comments by one of the following methods:

• E-mail: Renahan.Kate@epa.gov.

• Mail: Kate Renahan, US EPA-Region 1, Office of the Regional Administrator, 5 Post Office Square—Suite 100, Mail Code—ORA01-1, Boston, MA 02109-3912.

No facsimiles (faxes) will be accepted.

The draft permit is based on an administrative record available for public review at EPA-Region 1, Office of Ecosystem Protection, 5 Post Office Square—Suite 100, Boston, Massachusetts 02109-3912. The following SUPPLEMENTARY INFORMATION section sets forth principal facts and the significant factual, legal, and policy questions considered in the development of the draft permit. A reasonable fee may be charged for copying requests.

Public Meeting Information: EPA-Region 1 will hold a public meeting to provide information about the draft general permit and its requirements. This public meeting will include a brief presentation on the draft general permits and a brief question and answer session. Written, but not oral, comments for the official draft permit record will be accepted at the public meeting. A Public meeting will be held at the following time and locations:

Wednesday—March 9, 2011

Leominster Public Library Community Room, 30 West Street, Leominster, MA 01453, 9:30 a.m.-10:30 a.m.

Public Hearing Information: Following the March 9, 2011 public meeting, a public hearing will be conducted in accordance with 40 CFR 124.12 and will provide interested parties with the opportunity to provide written and/or oral comments for the official draft permit record. The public hearing will be held at the following time and location:

Wednesday—March 9, 2011:

Leominster Public Library Community Room, 30 West Street, Leominster, MA 01453, 11 a.m .-2 p.m.

FOR FURTHER INFORMATION CONTACT: Additional information concerning the draft permit may be obtained between the hours of 9 a.m. and 5 p.m. Monday through Friday excluding holidays from: Kate Renahan, Office of the Regional Administrator, Environmental Protection Agency, 5 Post Office Square—Suite 100, Mail Code: ORA01-1, Boston, MA 02109-3912; telephone: 617-918-1491; e-mail: Renahan.Kate@epa.gov.

SUPPLEMENTARY INFORMATION: Information about the proposed permits including background of the permit and summary of permit conditions was previously published on the November 4, 2010 (75 FR 67960-67962).

Dated: February 7, 2011.
H. Curtis Spalding,
Regional Administrator, Region 1.

[FR Doc. 2011-3380 Filed 2-14-11; 8:45 am]

BILLING CODE 6560-50-P